NATIONAL AERONAUTICS AND SPACE ADMINISTRATION

[Notice: (17-009)]

NASA Federal Advisory Committees

AGENCY: National Aeronautics and Space Administration.

ACTION: Annual Invitation for Public Nominations by U.S. Citizens for Service on NASA Federal Advisory Committees on Science.

SUMMARY: NASA announces its annual invitation for public nominations for service on four new Federal advisory committees of NASA that advise NASA on science. The four new committees, formerly subcommittees of the NASA Advisory Council (NAC) Science Committee (NAC SC), have been established under the Federal Advisory Committee Act (FACA), and will advise four divisions of the NASA Science Mission Directorate (SMD). On December 2, 2016, NASA published a notice in the Federal Register announcing their establishment [Federal Register, Vol. 81, No. 232, pages 87082-87083].

U.S. citizens may submit self-nominations for consideration to fill vacancies on these four new committees. There will be member vacancies from time to time throughout the year, and NASA will consider self-nominations to fill such intermittent vacancies. Nominees will only be contacted should a vacancy be available and it is judged that their area(s) of expertise is appropriate for that specific vacancy. NASA is committed to selecting members to serve on these committees based on their individual expertise, knowledge, experience, current/past contributions to the relevant subject area and overall diversity of the committee. All member appointments are non-compensated. However, NASA does cover travel and per diem expenses for all member appointments.

DATES: The deadline for NASA receipt of all public nominations is March 8, 2017.

ADDRESSES: To be considered by NASA, self-nomination packages from interested U.S. citizens must be sent to NASA as an email and must include the name of the specific committee of interest. Self-nomination packages are limited to specifying interest in only one committee per year. The following information is required to be included as part of each self-nomination package: (1) A cover email including the name of the specific committee of interest; (2) a professional resume (one-page maximum, included as an attachment); and, (3) a professional biography (one-page maximum; included as an attachment). All public self-nomination packages must be submitted electronically via email to NASA at one of the addresses listed below; paper-based documents sent through postal mail (hard-copies) will not be accepted. Note: Self-nomination packages that do not include the three (3) mandatory elements listed above will not receive further consideration by NASA.

Please submit the nomination as a single package containing the cover email and both required attachments electronically to the specific email address identified for the committee of interest:

• Astrophysics Advisory Committee (APAC): apac-execsec@hq.nasa.gov

• Earth Science Advisory Committee (ESAC): esac-execsec@hq.nasa.gov

• Heliophysics Advisory Committee (HPAC): hpac-execsec@hq.nasa.gov

• Planetary Science Advisory Committee (PAC): pac-execsec@hq.nasa.gov

FOR FURTHER INFORMATION CONTACT: To obtain further information on these committees, please visit the Web sites noted below for each. For any questions, please contact Ms. DaMara Belson, Science Mission Directorate, NASA Headquarters, (202) 358-2457; or email damara.m.belson@nasa.gov.

SUPPLEMENTARY INFORMATION: Nominees from any category of organizations or institutions within the U.S. are welcome, including, but not limited to, educational, industrial, and not-for-profit organizations, Federally Funded Research and Development Centers (FFRDCs), University Affiliated Research Centers (UARCs), NASA Centers, the Jet Propulsion Laboratory (JPL), and other Government agencies. Nominees need not be presently affiliated with any organization or institution.

The following qualifications/experience are highly desirable in nominees, and should be clearly presented in their self-nomination packages:

• Substantial (7-10 years post-Ph.D.) research experience including publications in the scientific field of the committee for which they are nominated, or comparable experience;

• Leadership in scientific and/or education and public outreach fields as evidenced by award of prizes, invitation to national and international meetings as speaker, organizer of scientific meetings/workshops, or comparable experience;

• Participation in NASA programs either as member of NASA mission science team, Research and Analysis program, membership on an advisory/working group or a review panel, or comparable experience;

• Good knowledge of NASA programs in the scientific field of the committee for which they are applying, including the latest NASA Science Plan (available as a link from http://science.nasa.gov/about-us/science-strategy/); and,

• Knowledge of the latest Decadal Survey conducted by the National Academies or other relevant advisory reports for the scientific field of the committee.

These are not full-time positions and the likelihood that a vacancy will occur in the coming year is unknown at this time. Committee members will be required to attend meetings of the committee approximately two or three times a year, either in person or via telecon and/or virtual meeting medium. Each nominee of potential interest to NASA will be required to submit a Confidential Financial Disclosure Report (OGE Form-450) to NASA, and undergo conflict of interest review and clearance by the NASA Office of the General Counsel prior to formal appointment. Committee members will be formally appointed as Special Government Employees (SGEs), unless they are Regular Government Employees (RGEs).

An overview of each of the four committees is listed below.

• Astrophysics Advisory Committee (APAC) (science.nasa.gov/science-advisory_committees/apac)—The Astrophysics Advisory Committee is a new FACA committee of NASA, and replaces the Astrophysics Subcommittee of the NAC SC. The APAC shall draw on the expertise of its members to provide advice and make recommendations to the Director, Astrophysics Division, SMD, on astrophysics programs, policies, plans and priorities. The scope of the APAC includes projects and observational and theoretical study of the origins, evolution, and destiny of the universe and the search for and study of Earth-like planets and habitable, extrasolar environments. In addition to scientific research, the scope encompasses considerations of the development of near-term enabling technologies, systems, and computing and information management capabilities, developments with the potential to provide long-term improvements in future operational systems, as well as training of the next generation of astronomers, and education and public outreach.

• Earth Science Advisory Committee (ESAC) (science.nasa.gov/science-advisory_committees/esac)—The Earth Science Advisory Committee is a new FACA committee of NASA, and replaces the Earth Science Subcommittee of the NAC SC. The ESAC shall draw on the expertise of its members to provide advice and make recommendations to the Director, Earth Science Division, SMD, on Earth Science programs, policies, plans and priorities. The ESAC's recommendations and analysis can be used to inform decisions on the programmatic scope and priorities, as well as the implementation of Earth science programs. In addition, the ESAC will provide a regular forum for broad discussion of Earth science and the role of Earth science within and outside of NASA.

• Heliophysics Advisory Committee (HPAC) (science.nasa.gov/science-advisory_committees/hpac)—The Heliophysics Advisory Committee is a new FACA committee of NASA, and replaces the Heliophysics Subcommittee of the NAC SC. The HPAC shall draw on the expertise of its members to provide advice and make recommendations to the Director, Heliophysics Division, SMD, on heliophysics programs, policies, plans and priorities. The scope of the HPAC includes all aspects of heliophysics, including the dynamical behavior of the Sun and its heliosphere; the dynamical behavior of the magnetosphere, ionosphere, and upper atmosphere of Earth and other planets; the multi-scale interaction between solar system plasmas and the interstellar medium; energy transport and coupling throughout the heliophysics domain; and space weather. In addition to scientific research, the scope encompasses considerations of the development of enabling technologies, systems, and computing and information management capabilities, as well as developments with the potential to provide long-term improvements to future space weather operational systems.

• Planetary Science Advisory Committee (PAC) (science.nasa.gov/science-advisory_committees/pac)—The Planetary Science Advisory Committee is a new FACA committee of NASA, and replaces the Planetary Science Subcommittee of the NAC SC. The PAC shall draw on the expertise of its members to provide advice and make recommendations to the Director, Planetary Science Division, SMD, on planetary science programs, policies, plans and priorities. The scope of the PAC includes all aspects of planetary science, scientific exploration of the Moon and Mars, the robotic exploration of the solar system, astrobiology, exoplanet research, space- and ground-based research, technology development, planning, and training required to support these science areas. In addition to scientific research, the scope encompasses considerations of the development of near-term enabling technologies, systems, and computing and information management capabilities, as well as developments with the potential to provide long-term improvements in future operational systems. Responsibility for biological planetary protection is outside the purview of the PAC.

Patricia D. Rausch,
Advisory Committee Management Officer, National Aeronautics and Space Administration.

[FR Doc. 2017-03541 Filed 2-22-17; 8:45 am]

BILLING CODE 7510-13-P